DEPARTMENT OF VETERANS AFFAIRS

Veteran's Advisory Committee on Education; Amendment—Notice of Meeting

The Department of Veterans Affairs gives notice under Public Law 92-463 (Federal Advisory Committee Act) that the Veterans' Advisory Committee on Education will meet on October 5-6, 2006. The meeting will be held at VA Central Office, 810 Vermont Avenue, NW., Washington, DC in Room 530. The sessions will convene at 8:00 a.m. each day. On October 5, the session will end at 4 p.m., and on October 6 at 12 noon. The meeting is open to the public.

The purpose of the Committee is to advise the Secretary of Veterans Affairs on the administration of education and training programs for veterans, servicepersons, reservists, and dependents of veterans under Chapter 30, 32, 35, and 36 of title 38, and Chapter 1606 of title 10, United States Code.

On October 5, the session will begin with opening remarks and an overview by Mr. James Bombard, Committee Chair. In addition, this session will include discussions on recent legislation, a total force GI Bill, remedial education programs and other needs of Iraq War veterans, use of private and corporate funds to support educational programs, and a contract call center. Oral statements from the public will be heard at 3:15 p.m. On October 6, the Committee will review and summarize issues addressed during this meeting.

Interested persons may file written statements to the Committee before the meeting, or within 10 days after the meeting, with Mrs. Judith B. Timko, Designated Federal Officer, Department of Veterans Affairs, Veterans Benefits Administration (225B), 810 Vermont Avenue, NW., Washington, DC 20420. Any member of the public wishing to attend the meeting should contact Mrs. Judith B. Timko or Mr. Robyn Noles at (202) 273-7187.

Dated: September 15, 2006.
By Direction of the Secretary.
E. Philip Riggin,
Committee Management Officer.

[FR Doc. 06-8107 Filed 9-21-06; 8:45 am]

BILLING CODE 8320-01-M